SMALL BUSINESS ADMINISTRATION

[License No. 06/06-0304]

AMT Capital, Ltd.; Notice Seeking Exemption Under Section 312 of the Small Business Investment Act, Conflicts of Interest

Notice is hereby given that AMT Capital, Ltd., 5220 Spring Valley Road, Dallas, Texas 75240, a Federal Licensee under the Small Business Investment Act of 1958, as amended (“the Act”), in connection with the financing of a small concern, has sought an exemption under section 312 of the Act and section 107.730, Financings which Constitute Conflicts of Interest of the Small Business of the Small Business Administration (“SBA”) Rules and Regulations (13 CFR 107.730 (2000)). AMT Capital, Ltd. proposes to provide equity financing to Ormet Circuits, Inc., 2236 Rutherford Road, Carlsbad, California. The financing is contemplated inasmuch as it is believed to have favorable long-term potential for appreciation and because the terms and conditions appear to be fair and equitable to AMT Capital, Ltd., taking into account any differences in the timing of each party's financing transactions.

The financing is brought within the purview of section 107.730(d)(2) of the Regulations inasmuch as AMT Venture Partners, Ltd. (“AMTVP”) and JHAM, Limited Partnership (“JHAM”), have invested in the small concern. AMTVP and JHAM are Limited Partners of AMT Capital, Ltd. and are therefore considered Associates thereof, as defined in section 107.50 of the Regulations.

Notice is hereby given that any interested person may submit written comments on the transaction to the Acting Associate Administrator for Investment, U.S. Small Business Administration, 409 Third Street, SW., Washington, DC 20416.

Dated: July 25, 2001.
Harry E. Haskins,
Acting Associate Administrator for Investment.

[FR Doc. 01-19619 Filed 8-3-01; 8:45 am]

BILLING CODE 8025-01-U